ENVIRONMENTAL PROTECTION AGENCY

[EPA-HQ-OPP-2009-1017; FRL-8881-1]

Product Cancellation Order for Certain Pesticide Registrations; Correction

AGENCY: Environmental Protection Agency (EPA).

ACTION: Notice; correction.

SUMMARY: EPA issued a cancellation order in the Federal Register of February 25, 2011, concerning the voluntary cancellation of multiple pesticide products. This document is being issued to correct the cancellations of two Phaeton Corporation pesticide products.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

The cancellation of Phaeton Corporation's pesticide products, EPA Reg. Nos. 28293-160 and 28293-215 was published in the Federal Register of February 25, 2011 (76 FR 10587) (FRL-8833-4). The Cancellation Order was issued following a Notice announcing the requests to voluntarily cancel these products published in the Federal Register of November 10, 2010. This Notice was subject to a 30-day comment period during which no comments were received regarding the subject product registrations.

These products were cancelled in error because Phaeton Corporation did not request their voluntary cancellation. The Agency mistakenly included these products in the Cancellation Order and notification was not received during the comment period prior to issuance of the final Cancellation Order. Therefore, EPA Reg. Nos. 28293-160 and 28293-215 should not have been included in the Cancellation Order published in the Federal Register of February 25, 2011, and these products maintain active registrations at this time.

III. What does this correction do?

The preamble for FR Doc. 2011-4140 published in the Federal Register of February 25, 2011 (76 FR 10587) (FRL-8863-4) is corrected as follows:

1. On page 10588, in Table 1, remove the entries for EPA Reg. No. 028293-00160, for Unicorn House and Carpet Spray 11, and EPA Reg. No. 028293-00215, for Unicorn IGR Pressurized Spray.

2. On page 10590, in Table 4, remove the Company No. 28293 and the company name and address for “Phaeton Corporation.”

List of Subjects

Environmental protection, Pesticides and pests.

Dated: July 7, 2011.
Richard P. Keigwin, Jr.,
Director, Pesticide Re-evaluation Division, Office of Pesticide Programs.

[FR Doc. 2011-17641 Filed 7-12-11; 8:45 am]

BILLING CODE 6560-50-P